DEPARTMENT OF HOMELAND SECURITY

Coast Guard

33 CFR Parts 100 and 165

[Docket Number USCG-2012-0174]

RIN 1625-AA00, AA08, AA11

OPSAIL 2012 Virginia, Port of Hampton Roads, VA

AGENCY: Coast Guard, DHS.

ACTION: Temporary final rule.

SUMMARY: The Coast Guard is establishing temporary regulations in the Port of Hampton Roads, Virginia for Operation Sail (OPSAIL) 2012 Virginia activities. This regulation is necessary to provide for the safety of life on navigable waters before, during, and after OPSAIL 2012 Virginia events. This action is intended to restrict vessel traffic movement in portions of Chesapeake Bay, Hampton Roads, the James River and Elizabeth River.

DATES: This rule is effective from June 6, 2012 to June 12, 2012.

ADDRESSES: Documents mentioned in this preamble are part of docket [USCG-2012-0174]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Dennis Sens, Prevention Division, Fifth Coast Guard District; (757) 398-6204, email Dennis.M.Sens@uscg.mil. If you have questions on viewing or submitting material to the docket, call Renee V. Wright, Program Manager, Docket Operations, telephone (202) 366-9826.

SUPPLEMENTARY INFORMATION:

Table of Acronyms

DHS Department of Homeland Security

FR Federal Register

NPRM Notice of Proposed Rulemaking

A. Regulatory History and Information

On April 3, 2012, we published a notice of proposed rulemaking (NPRM) entitled “OPSAIL 2012 Virginia, Port of Hampton Roads, VA” in the Federal Register (77 FR 19957). We received no comments on the proposed rule. No public meeting was requested, and none was held.

Under 5 U.S.C. 553(d)(3), the Coast Guard finds that good cause exists for making this rule effective less than 30 days after publication in the Federal Register. Due to the need for immediate action, the restriction of vessel traffic is necessary to protect life, property and the environment; therefore, a 30-day notice is impracticable. Delaying the effective date would be contrary to the regulations intended objectives of protecting persons and vessels, and enhancing public and maritime safety.

B. Basis and Purpose

The legal basis for the rule is the Coast Guard's authority to establish special local regulations, regulated navigation areas, and other limited access areas: 33 U.S.C. 1231; 33 U.S.C. 1233; 46 U.S.C. chapter 701, 3306, 3703; 50 U.S.C. 191, 195; 33 CFR 1.05-1, 6.04-1, 6.04-6, 160.5; Public Law 107-295, 116 Stat. 2064; Department of Homeland Security Delegation No. 0170.1.

Operation Sail, Inc. is sponsoring OPSAIL 2012 Virginia in the Port of Hampton Roads. Planned events include the scheduled arrival of U.S. and foreign naval vessels, public vessels, tall ships and other vessels on June 6, 2012 and June 8, 2012; the scheduled departure of those vessels on June 12, 2012; and three fireworks displays on June 9, 2012 with a rain date of June 10, 2012.

The Coast Guard anticipates a large spectator fleet for these events. Vessel operators should expect significant congestion along the OPSAIL parade route and viewing areas for fireworks displays.

The purpose of these regulations is to promote maritime safety and protect participants and the boating public in the Port of Hampton Roads immediately prior to, during, and after the scheduled events. The regulations provide clear passage and a safety buffer around participating vessels along the parade route while they are in transit, enhancing safety of participant and spectator vessels. The regulations also establish areas where vessels shall proceed at the minimum speed necessary that minimizes wake along the parade route and temporarily modifies use of existing anchorages for the benefit of participants and spectators. These regulations provide a safety buffer around the planned fireworks displays. The regulations will impact the movement of all vessels operating in the specified areas of the Port of Hampton Roads.

The Coast Guard will establish safety zones as a part of these regulations to safeguard dignitaries and certain vessels participating in the event. The Coast Guard will implement and enforce safety zones as specified in this regulation. The details of the safety zones outlined in this regulation will be announced separately via Local Notice to Mariners, Safety Voice Broadcasts, and by other public media outlets.

Vessel operators are reminded that Norfolk Naval Base will be strictly enforcing the existing restricted area defined at 33 CFR 334.300 during all OPSAIL events.

All vessel operators and passengers are reminded that vessels carrying passengers for hire or that have been chartered and are carrying passengers may have to comply with certain additional rules and regulations beyond the safety equipment requirements for all pleasure craft. When a vessel is not being used exclusively for pleasure, but rather is engaged in carrying passengers for hire or has been chartered and is carrying the requisite number of passengers, the vessel operator must possess an appropriate license and the vessel may be subject to inspection. The definition of the term “passenger for hire” is found in 46 U.S.C. 2101(21a). In general, it means any passenger who has contributed any consideration (monetary or otherwise) either directly or indirectly for carriage onboard the vessel. The definition of the term “passenger” is found in 46 U.S.C. 2101(21). It varies depending on the type of vessel, but generally means individuals carried aboard vessels except for certain specified individuals engaged in the operation of the vessel or the business of the owner/charterer. The law provides for substantial penalties for any violation of applicable license and inspection requirements. If you have any questions concerning the application of the above law to your particular case, you should contact the Coast Guard at the address listed in ADDRESSES for additional information.

Vessel operators are reminded they must have sufficient facilities on board their vessels to retain all garbage and untreated sewage. Discharge of either into any waters of the United States is strictly forbidden. Violators may be assessed civil penalties up to $40,000 or face criminal prosecution.

We recommend that vessel operators visiting the Port of Hampton Roads for this event obtain up to date editions of the following charts of the area: NOS. 12222, 12245, 12253, and 12254 to avoid anchoring within a charted cable or pipeline area. With the arrival of OPSAIL 2012 Virginia participants and spectator vessels in the Port of Hampton Roads for this event, it will be necessary to curtail normal port operations to some extent. Interference will be kept to the minimum considered necessary to ensure the safety of life on the navigable waters immediately before, during, and after the scheduled events.

C. Discussion of Comments, Changes and the Final Rule

The Coast Guard did not receive comments in response to the notice of proposed rulemaking (NPRM) published in the Federal Register. Accordingly, the Coast Guard is establishing special local regulations and safety zones on the specified navigable waters listed in this regulation.

D. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. The primary impact of these regulations will be on vessels desiring to transit the affected waterways during OPSAIL 2012 Virginia vessels arrival beginning on June 6, 2012, June 8, 2012, their departure ending on June 12, 2012 and during the fireworks display on June 9, 2012. Although these regulations prevent traffic from transiting a portion of the Chesapeake Bay, Thimble Shoals Channel, Hampton Roads, James River and Elizabeth River during these events, that restriction is limited in duration, affects only a limited area, and will be well publicized to allow mariners to make alternative plans for transiting the affected area. Moreover, the magnitude of the event itself will limit or prevent transit of the waterway. These regulations are designed to ensure such transit is conducted in a safe and orderly manner.

2. Impact on Small Entities

The Regulatory Flexibility Act of 1980 (RFA), 5 U.S.C. 601-612, as amended, requires federal agencies to consider the potential impact of regulations on small entities during rulemaking. The Coast Guard received no comments from the Small Business Administration on this rule. The Coast Guard certifies under 5 U.S.C. 605(b) that this rule will not have a significant economic impact on a substantial number of small entities.

(1) This rule would affect the following entities, some of which might be small entities: the owners or operators of vessels intending to transit or anchor in portions of the Chesapeake Bay, Thimble Shoals Channel, Hampton Roads, James River and Elizabeth River, in Virginia during various time periods on June 6, June 8, June 9 and June 12, 2012. The regulations would not have a significant impact on a substantial number of small entities for the following reasons: the restrictions are limited in duration, affect only limited areas, and will be well publicized to allow mariners to make alternative plans for transiting the affected areas.

(2) The special local regulations, regulated navigation areas and safety zones specified in this regulation will not have a significant economic impact on a substantial number of small entities for the following reasons. The regulated areas would be activated, and thus subject to enforcement, for only the minimum time necessary to provide clear passage and a safety buffer around participating vessels along the parade route while they are in transit, enhancing safety of participant and spectator vessels. Although the safety zone would apply to the entire width of the river, traffic may be allowed to pass through the zone with the permission of the Captain of the Port. Before the activation of regulated areas or safety zones, we would issue maritime advisories widely available to users of the affected waterway.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves implementation of regulations at 33 CFR part 100 and part 165 that apply to organized marine events on the navigable waters of the United States that may impact on the safety or other interest of waterway users and shore side activities in the event area. These regulations are necessary to provide for the safety of the general public and event participants from potential hazards associated with movement of vessels near the event area. This rule involves establishing special local regulations and safety zones issued in conjunction with a OPSAIL 2012 Virginia a marine event.

This rule is categorically excluded, under figure 2-1, paragraph (34)(g), of the Instruction. This rule involves establishing temporary safety zones. An environmental analysis checklist and a categorical exclusion determination are available in the docket where indicated under ADDRESSES.

Additionally, this rule involves establishing special local regulations issued in conjunction with a marine event, as described in figure 2-1, paragraph (34)(h), of the Instruction. Under figure 2-1, paragraph (34)(h), of the Instruction, an environmental analysis checklist and categorical exclusion determination are not required for this rule.

We seek any comments or information that may lead to the discovery of a significant environmental impact from this rule.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR part 100 and 165 as follows:

PART 100—SAFETY OF LIFE ON NAVIGABLE WATERS

1. The authority citation for part 100 continues to read as follows:

Authority: 33 U.S.C. 1233.

2. Add a temporary § 100.35T-05-0174 to read as follows:

§ 100.35T-05-0174 Special Local Regulations; OPSAIL 2012 Virginia, Port of Hampton Roads, VA.

(a) Definitions. (1) Captain of the Port Representative means any U.S. Coast Guard commissioned, warrant or petty officer who has been authorized by the Captain of the Port, Hampton Roads, Virginia to act on their behalf.

(2) Official Patrol Vessel includes all U.S. Coast Guard, public, state, county or local law enforcement vessels assigned and/or approved by the Captain of the Port, Hampton Roads, Virginia.

(3) Parades of Sail Vessel include all vessels participating in OPSAIL 2012 Virginia under the auspices of the U.S. Department of Homeland Security Application for Marine Event, Form CG-4423, for OPSAIL 2012 Virginia activities in the Port of Hampton Roads, Virginia approved by the Captain of the Port, Hampton Roads.

(4) Parade of Sail arrivals is the movement of Parades of Sail vessels in orderly succession as they navigate designated routes in the Port of Hampton Roads, Virginia while inbound to the Port of Hampton Roads, Virginia on June 6, 2012 and June 8, 2012.

(5) Parade of Sail departure is the movement of Parades of Sail vessels in orderly succession as they navigate designated departure routes from the Port of Hampton Roads, Virginia to Baltimore, Maryland on June 12, 2012.

(6) Spectator Vessel includes any vessel, commercial or recreational, being used for pleasure or carrying passenger that is in the Port of Hampton Roads to observe part or all of the OPSAIL 2012 Virginia events.

(7) Large Spectator Vessel includes any spectator vessel 60 feet or greater in length with a passenger capacity of 50 persons or greater.

(8) Vessel Traffic Control Point means a designated point which vessel traffic may not proceed past in either inbound or outbound direction without permission of the Captain of the Port.

(b) Regulated Areas. The following Vessel Traffic Control Points are established as special local regulations during OPSAIL 2012 Virginia in the Port of Hampton Roads, Virginia. All coordinates reference Datum NAS 1983:

(1) Elizabeth River, Western Branch along a line drawn across the Elizabeth River, Western Branch, at the West Norfolk Bridge, located at 36°51′31″ N 076°20′54″ W thence to 36°51′16″ N 076°20′38″ W.

(2) Elizabeth River, Eastern Branch along a line drawn across the Elizabeth River, Eastern Branch, at the Berkley Bridge, located at 36°50′33″ N 076°17′11″ W thence to 36°50′27″ N 076°17′12″ W.

(3) Elizabeth River, Southern Branch along a line drawn across the Elizabeth River, Southern Branch, at the Jordan Bridge, located at 36°48′29″ N 076°17′30″ W thence to 36°48′32″ N 076°17′17″ W.

(4) James River along a line drawn across the James River at the Monitor-Merrimac Bridge/Tunnel, located at 36°57′32″ N 076°24′36″ W thence to 36°56′54″ N 076°24′18″ W.

(5) Chesapeake Bay, Hampton Roads, Hampton Bar, along a line drawn from the Old Point Comfort Light (LLNR 9380) to Fort Wool Light (LLNR 9385), located at 37°00′03″ N 076°18′24″ W thence to 36°59′14″ N 076°18′10″ W.

(6) Elizabeth River along a line drawn from Elizabeth River Channel Lighted Buoy 20 (LLNR 9620) to Lafayette River Channel Light 2 (LLNR 10660), located at 36°53′33″ N 076°20′15″ W thence to 36°53′36″ N 076°19′27″ W.

(7) Elizabeth River along a line drawn from Elizabeth River Channel Lighted Buoy 29 (LLNR 9715) to Elizabeth River Channel Lighted Buoy 30 (LLNR 9735), located at 36°52′13″ N 076°19′44″ W thence to 36°52′02″ N 076°19′41″ W.

(8) Elizabeth River along a line drawn from Elizabeth River Channel Lighted Buoy 36 (LLNR 9900), located at 36°50′49.7″ N 076°17′58.7″ W thence to the southeast corner of Hospital Point, approximate position latitude 36°50′51″ N, longitude 076°18′09″ W.

(9) Elizabeth River, Southern Branch along a line drawn across the Elizabeth River, Southern Branch, at the Downtown Tunnel, located at 36°49′57.3″ N 076°17′44.5″ W thence to 36°50′00.3″ N 076°17′35.4″ W.

(c) Notification. (1) Coast Guard Captain of the Port will notify the public of the enforcement of these safety zones by all appropriate means to affect the widest publicity among the affected segments of the public. Publication in the Local Notice to Mariners, marine information broadcasts, and facsimile broadcasts may be made for these events, beginning 24 to 48 hours before the event is scheduled to begin, to notify the public.

(2) Contact Information. Questions about safety zones and related events should be addressed to the Coast Guard Captain of the Port. Contact Coast Guard Sector Hampton Roads—Captain of the Port Zone, Norfolk, Virginia: (757) 483-8567.

(d) Special Local Regulations. (1) Except for persons or vessels authorized by the Coast Guard Patrol Commander, no person or vessel may enter or remain in the regulated area.

(2) The operator of any vessel in the regulated area shall:

(i) Stop the vessel immediately when directed to do so by an Official Patrol.

(ii) Proceed as directed by any official patrol.

(iii) The operator of any vessel shall proceed at the minimum speed necessary to maintain a safe course that minimizes wake in or near the regulated area.

(e) Enforcement Period. This regulation will be enforced on June 6, 8, 9, and 12, 2012.

PART 165—REGULATED NAVIGATION AREAS AND LIMITED ACCESS AREAS

3. The authority citation for part 165 continues to read as follows:

Authority: 33 U.S.C. 1231; 46 U.S.C. chapter 701, 3306, 3703; 50 U.S.C. 191, 195; 33 CFR 1.05-1, 6.04-1, 6.04-6, 160.5; Pub. L. 107-295, 116 Stat. 2064; Department of Homeland Security Delegation No. 0170.1.

4. Add a temporary § 165.T05-0174 to read as follows:

§ 165.T05-0174 Chesapeake Bay entrance and Hampton Roads, VA and adjacent waters—Regulated Navigation Area.

(a) Regulations in this temporary section are supplemental to the regulations in 33 CFR 165.501. All coordinates listed reference Datum NAD 1983.

(b) Definitions. In this section:

(1) Official Patrol Vessel includes all U.S. Coast Guard, public, state, county or local law enforcement vessels assigned and/or approved by the Captain of the Port, Hampton Roads, Virginia.

(2) Parade of Sail Vessel includes all vessels participating in OPSAIL 2012 Virginia under the auspices of the U.S. Department of Homeland Security Application for Marine Event, CG-4423, for the OPSAIL 2012 Virginia activities in the Port of Hampton Roads, Virginia approved by the Captain of the Port, Hampton Roads.

(3) Parade of Sail Arrivals is the movement of Parades of Sail vessels in orderly succession as they navigate designated routes in the Port of Hampton Roads, Virginia while inbound to the Port of Hampton Roads, Virginia on June 6, 2012 and June 8, 2012.

(4) Parade of Sail Departure is the movement of Parades of Sail vessels in orderly succession as they navigate designated departure routes from the Port of Hampton Roads, Virginia to Baltimore, Maryland on June 12, 2012.

(5) Spectator Vessel includes any vessel, commercial or recreational, being used for pleasure or carrying passenger that is in the Port of Hampton Roads to observe part or all of the OPSAIL 2012 Virginia events.

(6) Large Spectator Vessel includes any Spectator Vessel 60 feet or greater in length with a passenger capacity of 50 persons or greater.

(7) Vessel Traffic Control Point means a designated point which vessel traffic may not proceed past in either inbound or outbound direction without permission of the Captain of the Port.

(c) Vessels participating in OPSAIL 2012 Virginia Parades of Sail are exempt from the regulations of § 165.501(d)(4).

(d) Regulated Navigation Area for OPSAIL 2012 Virginia. During parades of sail, after firework displays, and any other time deemed necessary for safety and security by the Captain of the Port, Hampton Roads, vessels shall operate at the minimum speed required to maintain steerage and shall avoid creating a wake when operating within the Regulated Navigation Area, as defined in this regulation. During the enforcement period a regulated navigation area will be established for spectator vessel anchorage. Spectator vessel anchoring will preempt use of these areas by other vessels.

(1) Chesapeake Bay near Thimble Shoals channel, all waters bounded by a line connecting the following points latitude 36°59′59.2″ N Longitude 76°13′45.8″ W, thence to latitude 36°59′08.7″ N longitude 76°10′32.6″ W, thence to 36°58′13.5″ longitude N 76°10′50.6″ W, thence to latitude 36°59′02.5″ N longitude 76°14′08.9″ W, thence to point of origin.

(2) Hampton Roads, Hampton Bar, all waters bounded by a line connecting the following points latitude 36°59′25.5″ N longitude 76°20′05.8″ W, thence to latitude 36°59′52.1″ N longitude 76°19′10.8″ W, thence to latitude 36°59′25.7″ N longitude 76°18′47.3″ W, thence to latitude 36°58′49.6″ N longitude 76°19′32.6″ W, thence to point of origin.

(3) Newport News Middle Ground, all waters bounded by a line connecting the following points latitude 36°57′56.4″ N longitude 76°20′30.5″ W, thence to latitude 36°57′08.5″ N longitude 76°20′31.0″ W, thence to latitude 36°56′48.8″ N longitude 76°20′22.5″ W, thence to latitude 36°56′45.0″ N longitude 76°20′32.0″ W, thence to latitude 36°56′45.0″ N longitude 76°21′37.7″ W, thence to latitude 36°57′14.1″ N longitude 76°23′29.1″ W, thence to latitude 36°57′28.1″ N longitude 76°21′11.7″ W, thence to point of origin.

(e) Regulated areas. The following locations are a moving safety zone:

(1) All waters within 500 yards of any OPSAIL 2012 vessel which is greater than 100 feet in length, while operating in the navigable waters of the Chesapeake Bay or its tributaries, south of the Maryland-Virginia border and north of latitude 36°55′00″ N. Vessels must operate at minimum speed within 100 yards of any OPSAIL 2012 vessel and proceed as directed by the official patrol commander.

(2) All waters within 100 yards of any OPSAIL 2012 vessel which is greater than 100 feet in length overall, while operating in the navigable waters of the Chesapeake Bay or its tributaries, south of the Maryland-Virginia border and north of latitude 36°55′00″ N. Vessels shall not approach within 100 yards of any OPSAIL vessel. If a vessel needs to pass within 100 yards of an OPSAIL 2012 vessel in order to ensure safe passage in accordance with the Navigation Rules, the vessel must contact the Coast Guard patrol commander on VHF-FM marine band radio channel 13 (165.65MHz) or channel 16 (156.8 MHz).

(f) Safety Zone. The following areas are safety zones. OPSAIL Parade of Sail Route Segments. Regulated waters enclosed by the following lines:

(1) Segment One. All waters bounded by a line connecting the Chesapeake Bay Entrance Lighted Whistle Buoy CH (LLNR 405) to Thimble Shoal Channel Lighted Bell Buoy 1TS (LLNR 9205), thence to Thimble Shoal Channel Lighted Bell Buoy 9 (LLNR 9255), thence to Thimble Shoal Channel Lighted Bell Buoy 10 (LLNR 9260), thence to Thimble Shoal Channel Lighted Buoy 2 (LLNR 9210), thence to the beginning.

(2) Segment Two. All waters bounded by a line connecting Thimble Shoal Channel Lighted Bell Buoy 9 (LLNR 9255), thence to Thimble Shoal Channel Lighted Gong Buoy 17 (LLNR 9295), thence to Fort Wool Light (LLNR 9385), thence to Old Point Comfort Light (LLNR 9380), thence to Thimble Shoal Channel Lighted Buoy 22 (LLNR 9320), thence to Thimble Shoal Channel Lighted Buoy 18 (LLNR 9300), thence to Thimble Shoal Channel Lighted Buoy 10 (LLNR 9260), thence to the beginning.

(3) Segment Three. All waters bounded by a line connecting Fort Wool Light (LLNR 9385), thence to Elizabeth River Channel Lighted Buoy 1ER (LLNR 9445), thence to Elizabeth River Channel Lighted Bell Buoy 3 (LLNR 9465), thence to Elizabeth River Channel Lighted Gong Buoy 5 (LLNR 9470), thence to Elizabeth River Channel Lighted Buoy 7 (LLNR 9475), thence to Elizabeth River Channel Lighted Buoy 9 (LLNR 9515), thence to Elizabeth River Channel Lighted Buoy 11 (LLNR 9525), thence to Elizabeth River Channel Lighted Buoy 15 (LLNR 9545), thence to Elizabeth River Channel Lighted Gong Buoy 17 (LLNR 9595), thence to Elizabeth River Channel Lighted Buoy 19 (LLNR 9605), thence to Lafayette River Channel Light 2 (LLNR 10660), thence to Elizabeth River Channel Lighted Buoy 20 (LLNR 9620), thence to Elizabeth River Channel Lighted Buoy 18 (LLNR 9600), thence to Elizabeth River Channel Lighted Buoy 14 (LLNR 9540), thence to Elizabeth River Channel Lighted Buoy 12 (LLNR 9530), thence to Elizabeth River Channel Lighted Bell Buoy 10 (LLNR 9520), thence to Elizabeth River Channel Lighted Buoy 8 (LLNR 9500), thence to Newport News Channel Lighted Buoy 2 (LLNR 10840), thence to Old Point Comfort Light (LLNR 9380), thence to the beginning.

(4) Segment Four. All waters bounded by a line connecting Elizabeth River Channel Lighted Buoy 20 (LLNR 9620), thence to Elizabeth River U.S. Navy Deperming Range Sound Signal (LLNR 9725), thence to Elizabeth River Channel Lighted Buoy 30 (LLNR 9735), thence to Elizabeth River Channel Lighted Buoy 32 (LLNR 9840), thence to Elizabeth River Channel Lighted Buoy 36 (LLNR 9900), thence following the shoreline to the western terminus of the Jordan Bridge, thence to the eastern terminus of the Jordan Bridge shoreline, thence following the shoreline to the southern terminus of the Berkley Bridge, thence to the northern terminus of the Berkley Bridge, thence following the shoreline to Elizabeth River Channel Lighted Buoy 33 (LLNR 9850), thence to Elizabeth River Channel Buoy 31 (LLNR 9835), thence to Elizabeth River Channel Lighted Buoy 29 (LLNR 9715), thence to Elizabeth River Channel Lighted Buoy 25 (LLNR 9710), thence to Elizabeth River Channel Lighted Buoy 21 (LLNR 9625), thence to Lafayette River Channel Light 2 (LLNR 10660), thence to the beginning.

(g) Regulated Area. The following area is a safety zone. Fireworks Display Safety Zone: Regulated waters enclosed by the following lines: All waters bounded by a line connecting Elizabeth River Channel Lighted Buoy 20 (LLNR 9620), thence to Elizabeth River U.S. Navy Deperming Range Sound Signal (LLNR 9725), thence to Elizabeth River Channel Lighted Buoy 30 (LLNR 9735), thence to Elizabeth River Channel Lighted Buoy 32 (LLNR 9840), thence to Elizabeth River Channel Lighted Buoy 36 (LLNR 9900), thence following the shoreline to the western terminus of the Jordan Bridge, thence to the eastern terminus of the Jordan Bridge shoreline, thence following the shoreline to the southern terminus of the Berkley Bridge, thence to the northern terminus of the Berkley Bridge, thence following the shoreline to Elizabeth River Channel Lighted Buoy 33 (LLNR 9850), thence to Elizabeth River Channel Buoy 31 (LLNR 9835), thence to Elizabeth River Channel Lighted Buoy 29 (LLNR 9715), thence to Elizabeth River Channel Lighted Buoy 25 (LLNR 9710), thence to Elizabeth River Channel Lighted Buoy 21 (LLNR 9625), thence to Lafayette River Channel Light 2 (LLNR 10660), thence to the beginning.

(h) Notification. (1) Coast Guard Captain of the Port will notify the public of the enforcement of these safety zones by all appropriate means to affect the widest publicity among the affected segments of the public. Publication in the Local Notice to Mariners, marine information broadcasts, and facsimile broadcasts may be made for these events, beginning 24 to 48 hours before the event is scheduled to begin, to notify the public.

(2) Contact Information. Questions about safety zones and related events should be addressed to the Coast Guard Captain of the Port. Contact Coast Guard Sector Hampton Roads—Captain of the Port Zone, Norfolk, Virginia: (757) 483-8567.

(i) Regulations: (1) In accordance with the general regulations in § 165.23 of this part, entry into these zones is prohibited unless authorized by the Captain of the Port, Hampton Roads or his designated representatives.

(2) The operator of any vessel in the immediate vicinity of this safety zone shall:

(i) Stop the vessel immediately upon being directed to do so by any commissioned, warrant or petty officer on shore or on board a vessel that is displaying a U.S. Coast Guard Ensign.

(ii) Proceed as directed by any commissioned, warrant or petty officer on shore or on board a vessel that is displaying a U.S. Coast Guard Ensign.

(3) The Captain of the Port, Hampton Roads can be reached through the Sector Duty Officer at Sector Hampton Roads in Portsmouth, Virginia at telephone Number (757) 668-5555.

(4) The Coast Guard Representatives enforcing the safety zone can be contacted on VHF-FM marine band radio channel 13 (165.65MHz) or channel 16 (156.8 MHz).

(j) Enforcement Period. This regulation will be enforced June 6, 8, 9, and 12, 2012.

Dated: May 17, 2012.
Steven H. Ratti,
Rear Admiral, U.S. Coast Guard, Commander, Fifth Coast Guard District.

[FR Doc. 2012-13404 Filed 6-4-12; 8:45 am]

BILLING CODE 9110-04-P